COMMODITY FUTURES TRADING COMMISSION

Sunshine Act Meeting

TIME AND DATE: 11 a.m., Friday, April 23, 2004.

PLACE: 1155 21st St., N.W., Washington, DC Room 1012.

STATUS: Closed.

MATTERS TO BE CONSIDERED: Surveillance Matters.

FOR FURTHER INFORMATION CONTACT: Jean A. Webb, (202) 418-5100.

Jean A. Webb,
Secretary of the Commission.

[FR Doc. 04-6127 Filed 3-15-04; 1:52 pm]

BILLING CODE 6351-01-M